DEPARTMENT OF DEFENSE

Office of the Secretary

Submission for OMB Review; Comment Request

ACTION: Notice.

The Department of Defense has submitted to OMB for clearance, the following proposal for a new collection of information under the provisions of the Paperwork Reduction Act (44 U.S.C. Chapter 35).

DATES: Consideration will be given to all comments received by March 25, 2002.

Title and OMB Number: 2001 Biennial Review of Defense Agencies and DoD Field Activities; OMB Number 0704-[To Be Determined].

Type of Request: New Collection.

Number of Respondents: 1,335.

Responses Per Respondent: 1.

Annual Responses: 1,335.

Average Burden Per Response: 15 minutes.

Annual Burden Hours: 334.

Needs and Uses: Section 192(c) of Title 10, U.S.C., requires that the Secretary of Defense review the services and supplies provided by each Defense Agency and Department of Defense (DoD) Field Activity. The purposes of the Biennial Review are to ensure the continuing need for each Agency and Field Activity and to ensure that the services and supplies provided by each entity is accomplished in a more effective, economical, or efficient manner than by the Military Departments. A standard organizational-customer survey process serves as the principal data-gathering methodology in the Biennial Review. As such, it provides valuable information to senior officials in the Department regarding the levels of satisfaction held by the organizational customers of approximately 20 Defense Agencies and DoD Field Activities covered by the Biennial Review. Respondents covered by this notice are private-sector customers of these business lines, such as for the Federal Voting Assistance Program and Defense Finance and Accounting Service.

Affected Public: Individuals or households; business or other for-profit; not-for-profit institutions; State, Local or Tribal Government.

Frequency: On occasion.

Respondents' Obligation: Voluntary.

OMB Desk Officer: Ms. Jacke Zeiher.

Written comments and recommendations on the proposed information collection should be sent to Ms. Zeiher at the Office of Management and Budget Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: February 12, 2002.
Patricia L. Toppings,
Alternate OSD Federal Register Liaison Officer, Department of Defense.

[FR Doc. 02-4095 Filed 2-20-02; 8:45 am]

BILLING CODE 5001-08-M